DEPARTMENT OF COMMERCE

National Oceanic and Atmospheric Administration

[RTID 0648-XA566]

Western Pacific Fishery Management Council; Public Meetings

AGENCY: National Marine Fisheries Service (NMFS), National Oceanic and Atmospheric Administration (NOAA), Commerce.

ACTION: Notice of public meetings.

SUMMARY: The Western Pacific Fishery Management Council (Council) will hold virtual meetings of its Fishing Industry Advisory Committee (FIAC) and Non-Commercial Fisheries Advisory Committee (NCFAC) to discuss and make recommendations on fishery management issues in the Western Pacific Region.

DATES: The FIAC will meet on Wednesday, October 28, 2020, from 1 p.m. to 4 p.m. and the NCFAC will meet on Thursday, October 29, 2020, from 1 p.m. to 3 p.m. All times listed are Hawaii standard times. For specific times and agendas, see SUPPLEMENTARY INFORMATION.

ADDRESSES: Each of the meetings will be held by web conference. Audio and visual portions for all of the web conferences can be accessed at: https://wprfmc.webex.com/join/info.wpcouncilnoaa.gov. Web conference access information will also be posted on the Council's website at www.wpcouncil.org. For assistance with the web conference connection, contact the Council office at (808) 522-8220.

FOR FURTHER INFORMATION CONTACT: Kitty M. Simonds, Executive Director, Western Pacific Fishery Management Council; telephone: (808) 522-8220.

SUPPLEMENTARY INFORMATION: Public comment periods will be provided in the agenda. Information on how to provide public comment will be posted on the Council's website at www.wpcouncil.org. The order in which agenda items are addressed may change. The meetings will run as late as necessary to complete scheduled business.

Schedule and Agenda for the FIAC Meeting

Wednesday, October 28, 2020, 1 p.m.-4 p.m.

1. Introduction and Welcome

2. Overview of the Council and FIAC Role

3. Round Table on Industry Issues

A. American Samoa

B. Hawaii

C. Guam

D. Commonwealth of the Northern Mariana Islands (CNMI)

4. Fishery Development and Management

A. American Samoa Diversification

B. Mariana Islands

i. Establishing Guam as a Hub for Pelagic Fisheries in Micronesia

ii. Review of the Guam 50 mile Longline and Bottomfish Closures

iii. Pilot Project for longline fishing in CNMI

C. Hawaii

i. Hawaii Seafood branding

ii. Public/Private Management of Harbor Facilities

iii. Main Hawaiian Islands Management Review

D. Region-wide

i. Aquaculture

ii. Protected Species

iii. Executive Order 13910-Council Priorities

5. Other Issues

6. Public Comment

7. Discussion and Recommendations

8. Other Business

Schedule and Agenda for the NCFAC Meeting

Thursday, October 29, 2020, 1 p.m.-3 p.m.

1. Welcome and Introductions

2. NCFAC History

3. NCFAC Duties and Charge

A. Marine Recreational Information Program Regional Implementation Plan

B. Annual Stock Assessment and Fishery Evaluation Reports

C. Council Research Priorities

D. Electronic Reporting and Non-Commercial Data Collection

4. Discussion on Non-Commercial Fishery Issues

A. Data Issues

B. Protected Species Issues

5. Public Comment

6. Discussion and Recommendations

7. Other Business

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: October 7, 2020.
Tracey L. Thompson,
Acting Deputy Director, Office of Sustainable Fisheries, National Marine Fisheries Service.

[FR Doc. 2020-22559 Filed 10-9-20; 8:45 am]

BILLING CODE 3510-22-P